DEPARTMENT OF COMMERCE

National Oceanic and Atmospheric Administration

[I.D. 033006A]

Endangered Species; File No. 1572

AGENCY: National Marine Fisheries Service (NMFS), National Oceanic and Atmospheric Administration (NOAA), Commerce.

ACTION: Notice; receipt of application.

SUMMARY: Notice is hereby given that Amanda Southwood, Department of Biology and Marine Biology, University of North Carolina at Wilmington, 601 S. College Road, Wilmington, North Carolina 28403, has applied in due form for a permit to take loggerhead (Caretta caretta), green (Chelonia mydas), and Kemp's ridley (Lepidochelys kempii) sea turtles for purposes of scientific research.

DATES: Written, telefaxed, or e-mail comments must be received on or before May 12, 2006.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.Comments may also be submitted by e-mail. The mailbox address for providing email comments is NMFS.Pr1Comments@noaa.gov. Include in the subject line of the e-mail comment the following document identifier: File No. 1572.

FOR FURTHER INFORMATION CONTACT: Patrick Opay or Kate Swails, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The purpose of the research would be to assess the physiological response of loggerhead, green, and Kemp's ridley sea turtles to entanglement in fishing gear, identify post-release mortality events, and integrate these data to assess the feasibility of using biochemical indices as predictors of post-release mortality. The research would also provide information on the movements of sea turtles utilizing the lower Cape Fear River. Researchers would annually capture up to 20 loggerhead, 20 green, and 5 Kemp's ridley sea turtles for a 3-year period using gillnets. Animals would be measured, weighed, blood sampled, passive integrated transponder tagged, satellite transmitter tagged, VHF tagged and tracked, have their cloacal body temperature taken, and be released. Up to 30 percent of the animals captured could die after release.

Dated: April 6, 2006.
Stephen L. Leathery,
Chief, Permits, Conservation and Education Division, Office of Protected Resources, National Marine Fisheries Service.

[FR Doc. E6-5407 Filed 4-11-06; 8:45 am]

BILLING CODE 3510-22-S